ENVIRONMENTAL PROTECTION AGENCY

[EPA-R01-OW-2012-0201, FRL-9688-9]

Massachusetts Marine Sanitation Device Standard—Notice of Determination

AGENCY: Environmental Protection Agency (EPA).

ACTION: Notice of Determination.

SUMMARY: The Regional Administrator of the Environmental Protection Agency—New England Region, has determined that adequate facilities for the safe and sanitary removal and treatment of sewage from all vessels are reasonably available for the waters of Dighton, Berkley, Freetown, Somerset, Swansea, and Fall River collectively termed Mount Hope Bay.

ADDRESSES: Docket: All documents in the docket are listed in the www.regulations.gov index. Although listed in the index, some information is not publicly available, e.g., CBI or other information whose disclosure is restricted by statute. Certain other material, such as copyrighted material, will be publicly available only in hard copy. Publicly available docket materials are available electronically in www.regulations.gov.

FOR FURTHER INFORMATION CONTACT: Ann Rodney, U.S. Environmental Protection Agency—New England Region, Office of Ecosystem Protection, Oceans and Coastal Protection Unit, Five Post Office Square, Suite 100, OEP06-1, Boston, MA 02109-3912. Telephone: (617) 918-1538. Fax number: (617) 918-0538. Email address: rodney.ann@epa.gov.

SUPPLEMENTARY INFORMATION: On April 19, 2012, EPA published a notice that the Commonwealth of Massachusetts had petitioned the Regional Administrator, Environmental Protection Agency, to determine that adequate facilities for the safe and sanitary removal and treatment of sewage from all vessels are reasonably available for the waters of Mount Hope Bay. Twelve comments were received on this petition, all commentors endorsed the designation.

The petition was filed pursuant to Section 312(f)(3) of Public Law 92-500, as amended by Public Laws 95-217 and 100-4, for the purpose of declaring these waters a No Discharge Area (NDA).

Section 312(f)(3) states: After the effective date of the initial standards and regulations promulgated under this section, if any State determines that the protection and enhancement of the quality of some or all of the waters within such State require greater environmental protection, such State may completely prohibit the discharge from all vessels of any sewage, whether treated or not, into such waters, except that no such prohibition shall apply until the Administrator determines that adequate facilities for the safe and sanitary removal and treatment of sewage from all vessels are reasonably available for such water to which such prohibition would apply.

This Notice of Determination is for the waters of Mount Hope Bay. The NDA boundaries are as follows:

Waterbody/General area | Latitude | Longitude
The northern edge of the NDA boundary on the Taunton River is the Center Street/Elm Street bridge at | 41°50′5.90″ N | 71°6′29.34″ W
The northern edge of the NDA boundary on the Lees River is the Route 6 bridge at | 41°44′24.87″ N | 71°11′12.72″ W
The northern edge of the NDA boundary on the Cole River is the Route 6 Bridge at | 41°44′47.03″ N | 71°12′7.81″ W
The southwestern edge of the NDA boundary is the Rhode Island/Massachusetts border at Swansea at | 41°42′43.94″ N | 71°13′34.27″ W
The southeastern edge of the NDA boundary is the Rhode Island/Massachusetts border at Fall River at | 41°40′30.28″ N | 71°11′43.86″ W

The Mount Hope Bay NDA will encompass the tidal waters of Dighton, Berkley, Freetown, Somerset, Swansea, and Fall River to the mean high tide line.

The information submitted to EPA by the Commonwealth of Massachusetts certifies that there are three pumpout facilities within the proposed area available to the boating public. The location, contact information, hours of operation, and water depth are provided at the end of this notice.

Based on the examination of the petition and its supporting documentation, and information from site visits conducted by EPA New England staff, EPA has determined that adequate facilities for the safe and sanitary removal and treatment of sewage from all vessels are reasonably available for the area covered under this determination.

This determination is made pursuant to Section 312 (f)(3) of Public Law 92-500, as amended by Public Laws 95-217 and 100-4.

Pumpout Facilities Within Proposed No Discharge Area
Name | Town | Contact information | Hours of operation | Depth (Ft)
Fall River Harbormaster Boat | Fall River | 774-644-3609, VHF 16 | On Call | N/A
Somerset Harbormaster Boat | Somerset | 774-319-3126, VHF 9, 16 | 8:30 A.M.-8:30 P.M. | N/A
Somerset Land-based Pumpout Station at Town Boat Ramp | Somerset | N/A Self Serve | 8 A.M.-5 P.M. Weekdays; 8 A.M.-6 P.M. Weekends | 3.5

Dated: June 7, 2012.
H. Curtis Spalding,
Regional Administrator, New England Region.

[FR Doc. 2012-14919 Filed 6-18-12; 8:45 am]

BILLING CODE 6560-50-P